DEPARTMENT OF HOMELAND SECURITY

Federal Emergency Management Agency

[Docket ID: FEMA-2024-0038; OMB No. 1660-0132]

Agency Information Collection Activities: Submission for OMB Review, Comment Request; Consolidated FEMA-National Training and Education Division (NTED) Level 3 Training Evaluation Forms

AGENCY: Federal Emergency Management Agency, Department of Homeland Security.

ACTION: 30-Day Notice of Reinstatement and Request for Comments.

SUMMARY: The Federal Emergency Management Agency (FEMA) will submit the information collection abstracted below to the Office of Management and Budget for review and clearance in accordance with the requirements of the Paperwork Reduction Act of 1995. FEMA invites the general public to take this opportunity to comment on a reinstatement, with change, of a previously approved information collection. In accordance with the requirements of the Paperwork Reduction Act of 1995, this notice seeks comments concerning the consolidation of all previous instruments into two evaluation forms to be shared by three FEMA offices to evaluate training programs.

DATES: Comments must be submitted on or before May 19, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, email address FEMA-Information-Collections-Management@fema.dhs.gov or Samuel Phillips, Supervisory Emergency Management Specialist, NTED, (202) 786-9573, and Samuel.Phillips@fema.dhs.gov. Denis Campeau, Director, Training and Education, Center for Domestic Preparedness (CDP), (256) 310-0874, and Denis.Campeau@fema.dhs.gov. Dalia Abdelmeguid, Supervisory Instructional Systems Specialist, National Disaster and Emergency Management University (NDEMU), (202) 212-8524, and Dalia.Abdelmeguid@fema.dhs.gov.

SUPPLEMENTARY INFORMATION: The National Training and Education Division (NTED), the Center for Domestic Preparedness (CDP) and the National Disaster and Emergency Management University (NDEMU) are geographically separated components of FEMA's National Preparedness Directorate. As such, all three organizations are part of the National Preparedness Directorate Training Enterprise with unique training missions for specific target audiences and are responsible for supporting and enabling national preparedness Core Capability, Community Lifelines, and Recovery Sector Preparedness performance outcomes described in Presidential Policy Directive (PPD) 8 National Preparedness, the National Preparedness Goal, the National Preparedness System, and 2022-2026 FEMA Strategic Plan objectives 1.3, 2.1, 2.2, and 3.1.

Like other Federal training organizations, the NTED, CDP and NDEMU utilize the Kirkpatrick Training Evaluation Model Level 3 survey results as one of several training evaluation tools to inform component program managers and leadership with metrics that monitor and report organizational performance and compliance with the Government Performance, Results and Modernization Act of 2010 (the “GPRA Modernization Act of 2010”). 31 U.S.C. 1115(b)(6) requires a balanced set of performance indicators to be used in measuring or assessing progress toward each performance goal, including, as appropriate, customer service, efficiency, output, and outcome indicators. Because the survey collects qualitative feedback from participants about how the training impacted their job performance, occupation, or organization, the results—along with other data—are used to assess the effectiveness of NTED, CDP and NDEMU training programs. NTED and CDP are members of the National Domestic Preparedness Consortium (NDPC). Per 6 U.S.C. 1102(c), the NDPC shall identify, develop, test, and deliver training to State, local, and Tribal emergency response providers, provide onsite and mobile training at the performance and management and planning levels, and facilitate the delivery of training by the training partners of the Department. FEMA interprets this authority to “test training” as the ability to assess its effectiveness, which this survey directly facilitates.

Per 6 U.S.C. 748(a)(1), the FEMA Administrator in coordination with heads of appropriate Federal agencies, the National Council on Disability, and the National Advisory Council, carries out a national training program to implement the national preparedness goal, National Incident Management System, National Response Plan, and other related plans and strategies. In addition, 6 U.S.C. 748(a)(2) directs the FEMA Administrator, in developing and implementing the national training program, to work with government training facilities, academic institutions, private organizations, and other entities that provide specialized, state-of-the-art training for emergency managers or emergency response providers; and utilize, as appropriate, training courses provided by community colleges, State and local public safety academies, State and private universities, and other facilities.

The Level 3 data collected from course graduates 3 to 6 months following training provides NTED, CDP and NDEMU with information and data on how training knowledge, skill and attitudes gained from training transfer to the student's job and organization and if the training was applied to the job, an exercise, or during an operational mission. Note: The number of NTED Continuing Training Grants training providers may fluctuate, increase, or decrease based on fiscal year grant funding levels approved by Congress. This reinstatement, with change, consolidates all evaluation forms for all offices into two shared instruments.

This proposed information collection previously published in the Federal Register on January 17, 2025, at 90 FR 5924 with a 60-day public comment period. No comments were received. The purpose of this notice is to notify the public that FEMA will submit the information collection abstracted below to the Office of Management and Budget for review and clearance.

Collection of Information

Title: Consolidated FEMA-National Training and Education Division (NTED) Level 3 Training Evaluation Forms.

Type of Information Collection: Reinstatement, with change, of a previously approved information collection.

OMB Number: 1660-0132.

FEMA Forms: CDP, NDEMU, and NTED Level 3 Student Evaluation Form, FEMA Form FF-008-FY-25-100; CDP, NDEMU, and NTED Level 3 Supervisor Evaluation Form, FEMA Form FF-008-FY-25-101.

Abstract: NTED, CDP, and NDEMU all utilize the Kirkpatrick Four Level Training Evaluation Model to assess training effectiveness. Donald Kirkpatrick developed the four-level model of training evaluation: Level 1 evaluation captures the students' perception or reaction to training. Level 2 completes a pre-post comparison of learning via tests/examinations and performance assessment checklists of the student learning (change in behavior). Level 3 evaluation instruments capture how the training transfers to the students' work environment and their particular job. Lastly, Level 4 captures information about the return on key stakeholder expectations of the course or training program. The data collected by these training evaluation forms is shared with representatives from each course/program's respective target audience during 3-year course/program reviews. All three organizations analyze the data to determine what revisions are needed in curriculum, delivery, and to elicit inputs to improve training while providing documentation as to how training was applied, and how it impacts the individual and organization.

Affected Public: State, Local, and Tribal Government; Private Sector.

Estimated Number of Respondents: 20,224.

Estimated Number of Responses: 20,224.

Estimated Total Annual Burden Hours: 5,057.

Estimated Total Annual Respondent Cost: $303,922.

Estimated Respondents' Operation and Maintenance Costs: $0.

Estimated Respondents' Capital and Start-Up Costs: $0.

Estimated Total Annual Cost to the Federal Government: $32,314.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Maile Rasco-Arthur,
Acting Records Management Branch Chief, Office of the Chief Administrative Officer, Mission Support, Federal Emergency Management Agency, Department of Homeland Security.

[FR Doc. 2025-06596 Filed 4-16-25; 8:45 am]

BILLING CODE 9111-72-P